Proclamation 8096 of December 29, 2006

To Extend Nondiscriminatory Treatment (Normal Trade Relations Treatment) to the Products of Vietnam

By the President of the United States of America

A Proclamation

1. Vietnam has demonstrated a strong desire to build a friendly and cooperative relationship with the United States and has been found to be in full compliance with the freedom of emigration requirements under title IV of the Trade Act of 1974 (the “1974 Act”) (19 U.S.C. 2431 et seq.).

2. Pursuant to section 4002 of H.R. 6111, signed on December 20, 2006, I hereby determine that chapter 1 of title IV of the 1974 Act (19 U.S.C. 2431-2439) should no longer apply to Vietnam.

NOW, THEREFORE, I, GEORGE W. BUSH, President of the United States of America, acting under the authority vested in me by the Constitution and the laws of the United States of America, including but not limited to section 4002 of Public Law 109-432 do proclaim that:

1. Nondiscriminatory treatment (normal trade relations treatment) shall be extended to the products of Vietnam, which shall no longer be subject to chapter 1 of title IV of the 1974 Act.

2. The extension of nondiscriminatory treatment to the products of Vietnam shall be effective as of the date of signature of this proclamation.

3. All provisions of previous proclamations and Executive Orders that are inconsistent with this proclamation are superseded to the extent of such inconsistency.

IN WITNESS WHEREOF, I have hereunto set my hand this twenty-ninth day of December, in the year of our Lord two thousand six, and of the Independence of the United States of America the two hundred and thirty-first.

[FR Doc. 07-00003

Filed 1-3-07; 11:03 am]

Billing code 3195-01-P